DEPARTMENT OF ENERGY

Notice of Changes to Public Hearings for the Revised Draft Environmental Impact Statement for Decommissioning and/or Long-Term Stewardship at the West Valley Demonstration Project and Western New York Nuclear Service Center, DOE/EIS-0226D (Revised)

AGENCY: Department of Energy.

ACTION: Notice of changes to public hearings.

SUMMARY: This notice announces changes to the public hearings initially published in the December 5, 2008 Notice of Availability (73 FR 74160) for the Revised Draft Environmental Impact Statement for Decommissioning and/or Long-Term Stewardship at the West Valley Demonstration Project and Western New York Nuclear Service Center [DOE/EIS-0226-D (Revised)] (referred to as the “Draft Decommissioning and/or Long-Term Stewardship EIS” or “Draft EIS.”). An additional public hearing will be held in Albany, NY and the location for the Blasdell, NY hearing has been changed to Buffalo, NY.

DATES: Public hearings on the Draft EIS will be held on March 30, 2009; March 31, 2009; April 1, 2009; and April 2, 2009.

ADDRESSES: Public hearings will be held at the following locations: Monday, March 30, 2009, from 6:30 p.m. to 9:30 p.m. at the Crowne Plaza Albany Hotel, State and Lodge Street, Albany, NY 12207; Tuesday, March 31, 2009, from 6 p.m. to 9 p.m. at the Seneca Nation of Indians, William Seneca Building, 12837 Route 438, Irving, NY 14081; Wednesday, April 1, 2009, from 6:30 p.m. to 9:30 p.m. at the Ashford Office Complex, 9030 Route 219, West Valley, NY 14177; and Thursday, April 2, 2009, from 6:30 p.m. to 9:30 p.m. at the Erie Community College/City Campus Auditorium, 121 Ellicott Street, Buffalo, NY 14203.

FOR FURTHER INFORMATION CONTACT: Oral and written comments on the Draft EIS will be accepted at the public hearings, or written comments may be mailed to Catherine Bohan, EIS Document Manager, West Valley Demonstration Project, U.S. Department of Energy, P.O. Box 2368, Germantown, MD 20874. Comments must be received by June 8, 2009 to be considered in the Final EIS. Comments may also be submitted via e-mail at http://www.westvalleyeis.com or by faxing toll-free to 866-306-9094. Please mark all envelopes, faxes, and e-mail: “Draft Decommissioning and/or Long-Term Stewardship EIS Comments.”

Issued in Washington, DC on March 11, 2009.
Michael C. Moore,
Acting Director, Office of Small Sites Projects.

[FR Doc. E9-5701 Filed 3-16-09; 8:45 am]

BILLING CODE 6450-01-P